DEPARTMENT OF DEFENSE

GENERAL SERVICES ADMINISTRATION

NATIONAL AERONAUTICS AND SPACE ADMINISTRATION

[OMB Control No. 9000-0097; Docket No. 2019-0003; Sequence No. 16]

Submission for OMB Review; Federal Acquisition Regulation Part 4 Requirements

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding Federal Acquisition Regulation (FAR) part 4 requirements.

DATES: Submit comments on or before July 12, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0097 Federal Acquisition Regulation Part 4 Requirements.

Instructions: All items submitted must cite Information Collection 9000-0097 Federal Acquisition Regulation Part 4 Requirements. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Mahruba Uddowla, Procurement Analyst, at telephone 703-605-2868, or email mahruba.uddowla@gsa.gov.

SUPPLEMENTARY INFORMATION:

A. OMB Number, Title, and Any Associated Form(s)

OMB Control No. 9000-0097, Federal Acquisition Regulation Part 4 Requirements.

B. Needs and Uses

This information collection requirement, OMB Control No. 9000-0097, currently titled “Taxpayer Identification Number Information,” is proposed to be retitled “Federal Acquisition Regulation Part 4 Requirements” due to consolidation with currently approved information collection requirements OMB Control No. 9000-0159, System for Award Management (SAM) Registration; 9000-0145, Use of Data Universal Numbering System (DUNS) as Primary Contractor Identification; and 9000-0179, Service Contractor Reporting Requirement.

This information collection requirement pertains to information that a contractor must submit in response to a number of requirements from FAR Part 4, which are as follows:

1. Taxpayer Identification Number Information. FAR Subpart 4.9, Taxpayer Identification Number Information, and the provision at 52.204-3, Taxpayer Identification, implement statutory and regulatory requirements pertaining to taxpayer identification and reporting.

2. SAM Registration and Maintenance. FAR Subpart 4.11 prescribes policies and procedures for requiring contractor registration in the System for Award Management (SAM) database to: (1) Increase visibility of vendor sources (including their geographical locations) for specific supplies and services; and (2) establish a common source of vendor data for the Government. FAR provision 52.204-7, System for Award Management, implements the requirement for offerors on Federal contracts. The clause requires prospective contractors to be registered in the SAM database prior to award of a contract or agreement, except in certain limited cases. Offerors are required to provide certain business information, including their Taxpayer Identification Number (TINs) and Electronic Funds Transfer (EFT) information only once into a common Governmentwide data source. FAR clause 52.204-13, System for Award Management Maintenance, requires contractors to make sure their SAM data is kept current, accurate, and complete throughout contract performance and final payment; this maintenance is, at a minimum, to be done through an annual review and update of the contractor's SAM registration. FAR provision 52.212-1 and clause 52.212-4 contains the equivalent of 52.204-7 and 52.204-13 respectively, for commercial acquisitions.

3. Use of DUNS as Primary Contractor Identification (now known as Unique Entity Identifier). The DUNS number is the nine-digit identification number assigned by Dun and Bradstreet Information Services to an establishment. The Government uses the DUNS number to identify contractors in reporting to the Federal Procurement Data System (FPDS). The FPDS provides a comprehensive mechanism for assembling, organizing, and presenting contract placement data for the Federal Government. Federal agencies report data on all contracts in excess of $3,500 to FPDS. In 2016, the FAR was amended to redesignate the terminology for unique identification of entities receiving Federal awards; the proprietary term “DUNS number” was replaced by the term “unique entity identifier.” Contracting officers insert the FAR provision 52.204-6, Unique Entity Identifier, in solicitations they expect will result in contracts in excess of $3,500. This provision requires offerors to submit their unique entity identifier, which for now is the DUNS number, with their offer. If the offeror does not have a DUNS number, the provision provides instructions on obtaining one. Contracting officer also insert FAR clause 52.204-12, Unique Entity Identifier Maintenance, in all solicitations and resulting contracts containing provision 52.204-6. The clause requires contractors to maintain their unique entity identifier with whatever organization issues such identifiers, for the life of the contract; clause also requires contractors to notify contracting officers of any changes to the unique entity identifier.

4. Service Contractor Reporting Requirement. Section 743(a) of Division C of the Consolidated Appropriations Act, 2010 (Pub. L. 111-117) requires executive agencies covered by the Federal Activities Inventory Reform (FAIR) Act (Pub. L. 105-270), except DoD, to submit to the Office of Management and Budget (OMB) annually an inventory of activities performed by service contractors. DoD is exempt from this reporting requirement because 10 U.S.C. 2462 and 10 U.S.C. 2330a(c) already require DoD to develop an annual service contract inventory. This information collection covers the burden hours related to the requirement at FAR subpart 4.17, Service Contracts Inventory, and its associated clauses, 52.204-14 and 52.204-15.

C. Annual Burden

Respondents: 296,051.

Total Annual Responses: 587,191.

Total Burden Hours: 198,629.04.

D. Public Comment

A 60 day notice was published in the Federal Register at 84 FR 10826, on March 22, 2019. One comment was received; however, it did not change the estimate of the burden.

Comment: The commenter asked that additional tariffs not be imposed on motorcycles or motorcycle parts and accessories from the European Union. The commenter stated that their concerns were in relation to the tariffs being proposed on Motorcycles, Motorcycles Parts & Accessories as part of Section 301 Large Civil Aircraft Dispute.

Response: This comment is out of scope because the information collection requirements covered through OMB Control No. 9000-0097 do not relate to the topic of tariffs.

Obtaining Copies: Requesters may obtain a copy of the information collection documents from the General Services Administration, Regulatory Secretariat Division (MVCB), 1800 F Street NW, Washington, DC 20405, telephone 202-501-4755. Please cite OMB Control No. 9000-0097 Federal Acquisition Regulation Part 4 Requirements, in all correspondence.

Dated: June 6, 2019.
Janet Fry,
Director, Federal Acquisition Policy Division, Office of Governmentwide Acquisition Policy, Office of Acquisition Policy, Office of Governmentwide Policy.

[FR Doc. 2019-12356 Filed 6-11-19; 8:45 a.m.]

BILLING CODE 6820-EP-P